DEPARTMENT OF THE INTERIOR

Minerals Management Service

Notice of Availability of Draft Programmatic Environmental Assessment (EA)

AGENCY: Minerals Management Service (MMS), Department of the Interior.

ACTION: Notice of availability of the draft Programmatic EA for the Coastal Impact Assistance Program.

SUMMARY: The Minerals Management Service (MMS) announces the availability of the draft Programmatic Environmental Assessment (EA) for the Coastal Impact Assistance Program (CIAP). This EA will assist agency planning by facilitating the establishment of procedures for the disbursement of CIAP funds and providing an opportunity to involve the public, States, and coastal political subdivisions (CPSs). Specifically, this EA generally describes the potential environmental impacts of CIAP projects, provides comprehensive guidance to the States and CPSs for submitting the documentation needed to comply with relevant environmental laws at the time they request funding for proposed projects, and compiles information that may be appropriate to include in environmental compliance documents prepared for each proposed project.

DATES: Comments will be accepted for thirty (30) days after the publication date of this notice.

ADDRESSES: If you wish to comment, you may submit your comments by any one of several methods. You may comment via the Internet at: https://ocsconnect.mms.gov/pcs-public/. This is the preferred method for commenting. From the Public Connect “Welcome” screen, search for “Coastal Impact Assistance Program Draft EA” or select it from the “Projects Open for Comment” menu. You may mail comments to: Coastal Impact Assistance Program Draft EA, Attention

Mr. James F. Bennett, Chief, Branch of Environmental Assessment, 381 Elden Street, Mail Stop 4042, Herndon, Virginia 20170-4817. You may also hand-deliver comments to the Department of the Interior, Main Interior Building, 1849 C Street, NW., Room 4227, Washington, DC 20240. Envelopes or packages must be marked “Coastal Impact Assistance Program Draft Environmental Assessment.” Before including your address, phone number, e-mail address, or other personal identifying information in your comment, be advised that your entire comment—including your personal identifying information—may be made publicly available at any time. While you can ask us in your comment to withhold from public review your personal identifying information, we cannot guarantee that we will be able to do so. We will not consider anonymous comments. Submissions from organizations or businesses, and from individuals identifying themselves as representatives or officials of organizations or businesses, will be made available for public inspection in their entirety.

FOR FURTHER INFORMATION CONTACT: Mr. James F. Bennett, Minerals Management Service, Chief, Branch of Environmental Assessment, at (703) 787-1660.

SUPPLEMENTARY INFORMATION: The draft programmatic Environmental Assessment may be found on the Internet at: http://www.mms.gov/offshore/CIAPmain.htm.

After the comments on the draft EA have been reviewed and analyzed, a final EA will be prepared and made available to the public.

The CIAP was created as part of the Energy Policy Act of 2005. The purpose of the CIAP is to provide funds to conserve, protect, and restore coastal areas; mitigate damage to fish, wildlife, and natural resources; implement a federally-approved marine, coastal, or comprehensive conservation management plan; mitigate the impact of Outer Continental Shelf activities through funding of onshore infrastructure projects and public service needs; and assist planning and defray the administrative costs of complying with the CIAP. Responsibility for disbursing CIAP funds has been delegated to the MMS.

The Energy Policy Act requires MMS to disburse $250 million for each fiscal year 2007 through 2010 to eligible producing States (Alabama, Alaska, California, Louisiana, Mississippi, and Texas) and CPSs to be used for one or more of five authorized uses. For MMS to comply with the Energy Policy Act and effectively manage the CIAP, it must establish procedures for the submission and approval of State coastal impact assistance plans and the grant application process for individual CIAP projects. The MMS has determined that the preparation of this EA will assist agency planning by providing comprehensive guidance to the States and CPSs for submitting to MMS the documentation needed to comply with the relevant environmental laws at the time they request funding for proposed projects. Review of the draft EA provides an opportunity to involve the public, States, and CPSs in the establishment of this guidance. Because the development of CIAP procedures does not require MMS to resolve conflicts concerning alternative uses of available resources, MMS does not analyze alternatives to the development of CIAP procedures in this EA.

This EA provides information that may be appropriate to include in National Environmental Policy Act (NEPA) compliance documents prepared for each proposed project. Although the individual CIAP projects have not yet been proposed, the broad categories of authorized CIAP projects set forth in the Energy Policy Act enables MMS to generally describe the potential environmental impacts of CIAP projects. MMS expects that future NEPA compliance documents for proposed CIAP projects will analyze a no action alternative on a collective or case-by-case basis, as well as reasonable alternatives that may include standard mitigation measures.

Dated: November 13, 2006.
Robert P. LaBelle,
Acting Associate Director for Offshore Minerals Management.

[FR Doc. E6-21445 Filed 12-14-06; 8:45 am]

BILLING CODE 4310-MR-P